DEPARTMENT OF TRANSPORTATION

Federal Aviation Administration

14 CFR Parts 121, 125, and 135

[Docket No.: FAA-2003-15682; Amendment Nos. 121-288, 125-42, 135-84]

RIN 2120-AH89

Digital Flight Data Recorder Requirements—Changes to Recording Specifications and Additional Exceptions; Correction

AGENCY: Federal Aviation Administration (FAA), DOT.

ACTION: Correction.

SUMMARY: This document makes corrections to the correction to the final rule published in the Federal Register on August 20, 2003 (68 FR 50069). This document makes a minor change to a section number that was changed in the previous correction to the final rule. In the first correction document, we inserted a corrected Parameter 15 into the appendixes for part 121 and part 125 in the final rule. We inadvertently cited § 135.152(j) in the “Seconds per sampling interval” column when we should have cited § 121.344(f).

DATES: This correction is effective August 18, 2003.

FOR FURTHER INFORMATION CONTACT: Gary Davis, Flight Standards Service, Air Transportation Division; telephone (202) 267-8166; facsimile (202) 267-5229; e-mail gary.davis@faa.gov.

Background

In response to a series of recommendations issued by the National Transportation Safety Board (NTSB), the FAA revised and updated parts 121, 125 and 135 of Title 14, Code of Federal Regulations (14 CFR) in 1997 to require that flight data recorders on U.S. registered airplanes be upgraded to record additional parameters of data (62 FR 38362, July 17, 1997). The exact number of parameters required depends on the age of the airplane; airplanes manufactured after August 19, 2002, must record 88 parameters of flight data.

The final rule published on July 18, 2003 (68 FR 42932) amends the flight data recorder regulations by expanding the recording specifications of certain data parameters for specified airplanes, and by adding aircraft models to the lists of aircraft excepted from the 1997 regulations. In addition, this rule corrects specifications in an operating rule appendix that were inadvertently omitted in previous actions. These changes are necessary to allow the continued operation of certain aircraft that are unable to meet the existing recorder criteria using installed equipment. The changes are also necessary for certain aircraft for which the cost to retrofit under 1997 regulatory changes would be cost prohibitive.

List of Subjects

14 CFR Part 121

Air carriers, Aircraft, Aviation safety, Reporting and recordkeeping requirements, Safety, Transportation.

14 CFR Part 125

Aircraft, Aviation safety, Reporting and recordkeeping requirements.

14 CFR Part 135

Air taxis, Aircraft, Aviation safety, Reporting and record keeping requirements.

Correction

In the correction to the final rule “Digital Flight Data Recorder Requirements—Changes to Recording Specifications and Additional Exceptions” published in the Federal Register on August 20, 2003, FR Doc. No. 03-21329 (68 FR 50069) make the following correction:

1. On page 50069, in the chart for Parameter 15, in the fourth column, correct “0.5 or 0.25 for airplanes operated under § 135.152(j).” to read “0.5 or 0.25 for airplanes operated under § 121.344(f).”

Issued in Washington, DC on September 9, 2003.
Donald P. Byrne,
Assistant Chief Counsel for Regulations.

[FR Doc. 03-23505 Filed 9-12-03; 8:45 am]

BILLING CODE 4910-13-P